DEPARTMENT OF THE INTERIOR

National Park Service

[NPS-WASO-IMR-YELL-NPS0034654; PPIMYELL60 POPCF8099.XZ0000 PX.P0241364E.00.1 (222); OMB Control Number 1024-0266]

Agency Information Collection Activities; Submission to the Office of Management and Budget for Review and Approval; Reporting and Recordkeeping for Snowcoaches and Snowmobiles, Yellowstone National Park

AGENCY: National Park Service, Interior.

ACTION: Notice of information collection; request for comment.

SUMMARY: In accordance with the Paperwork Reduction Act of 1995, we, the National Park Service (NPS) are proposing to renew an information collection with revisions.

DATES: Interested persons are invited to submit comments on or before January 3, 2023.

ADDRESSES: Written comments and recommendations for the proposed information collection should be sent within 30 days of publication of this notice to www.reginfo.gov/public/do/PRAMain. Find this particular information collection by selecting “Currently under Review—Open for Public Comments” or by using the search function. Please provide a copy of your comments to NPS Information Collection Clearance Officer (ADIR-ICCO), 12201 Sunrise Valley Drive, (MS-242) Reston, VA 20191 (mail); or to phadrea_ponds@nps.gov (email). Please reference OMB Control Number 1024-0266 in the subject line of your comments.

FOR FURTHER INFORMATION CONTACT: To request additional information about this ICR, contact Becky Wyman, Concessions Management Specialist, P.O. Box 168, Mammoth Hot Springs, Yellowstone National Park, WY 82190-0168; or becky_wyman@nps.gov (email); or at 307-344-2278 (telephone). Please reference OMB Control Number 1024-0266 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 16, 2022 (87 FR 8877). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The National Park Service (NPS) is authorized by regulations codified in 36 CFR 7.13(l), Special Regulations; Areas of the National Park System; Yellowstone National Park; Winter Use, to establish a management framework that allows the public to experience the unique winter resources and values at Yellowstone National Park (YELL). Access to most of the park in the winter is limited by distance and the harsh winter environment, which presents challenges to safety and park operations. In response, the NPS provides opportunities for park visitors to experience Yellowstone in the winter via over-snow vehicles (snowmobiles and snowcoaches, collectively OSVs). The NPS will use Form 10-650 OSV Monthly Use Report to ensure that OSVs meet NPS emission standards to operate in the park. The completed forms are used to evaluate commercial tour operators' compliance with allocated transportation events and daily and seasonal OSV group size limits and to ensure that established daily transportation event limits for the park are not exceeded. The NPS will confirm that commercial tour operators do not run out of authorizations before the end of the season and create a gap when prospective visitors cannot be accommodated and guarantee compliance with applicable laws. Our previously approved information collection identified three information collections.

(1) Emission and Sound Standards—Snowcoaches (§ 7.13(l)(4)(vii) and (5)). Only OSVs that meet NPS emission and sound standards may operate in the park. Before the start of each winter season, snowcoach manufacturers or commercial tour operators must demonstrate, by means acceptable to the Superintendent, that their snowcoaches meet the emission and sound standards.

2. Enhanced Emission Standards (§ 7.13(l)(11)(iv)). To qualify for the increased average size of snowmobile transportation events or increased maximum size of snowcoach transportation events, before the start of each winter season each commercial tour operator must:

(a) demonstrate, by means acceptable to the Superintendent, that his or her snowmobiles or snowcoaches meet the enhanced emission standards; and

(b) maintain separate records for snowmobiles and snowcoaches that meet enhanced emission standards and those that do not.

3. OSV Monthly Use Report (Form 10-650). To maintain accurate and complete records on the number of snowmobiles and snowcoaches commercial tour operators bring into the park on a daily basis. These records must be made available for inspection by the park upon request.

The previously approved submission combined the responses and burden for Snowcoaches and Snowmobiles. The revision separates the category which creates a new IC:

4. New IC—Emission and Sound Standards—Snowmobiles (§ 7.13(l)(4)(vii) and (5)). Only OSVs that meet NPS emission and sound standards may operate in the park. Before the start of each winter season snowmobile manufacturers must demonstrate, by means acceptable to the Superintendent, that their snowmobiles meet the emission and sound standards.

Title of Collection: Reporting and Recordkeeping for Snowcoaches and Snowmobiles, Yellowstone National Park.

OMB Control Number: 1024-0266.

Form Number: NPS Form 10-650.

Type of Review: Revision of a currently approved collection.

Respondents/Affected Public: Businesses desiring to operate snowcoaches and snowmobiles in Yellowstone National Park.

Total Estimated Number of Annual Respondents: 87.

Estimated Completion Time per Response: Varies from 30 minutes to 2 hours depending on respondent and/or activity.

Total Estimated Number of Annual Burden Hours: 146 hours.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-26149 Filed 11-30-22; 8:45 am]

BILLING CODE 4312-52-P